DEPARTMENT OF ENERGY

Federal Energy Regulatory Commission

[Docket Nos. EL15-70-000; EL15-71-000; EL15-72-000; EL15-82-000]

Public Citizen, Inc. v. Midcontinent Independent System Operator, Inc., The People of the State of Illinois By Illinois Attorney General Lisa Madigan v. Midcontinent Independent System Operator, Inc., Southwestern Electric Cooperative, Inc. v. Midcontinent Independent System Operator, Inc., Dynegy, Inc., and Sellers of Capacity into Zone 4 of the 2015-2016 MISO Planning Resource Auction, Illinois Industrial Energy Consumers v. Midcontinent Independent System Operator, Inc.; Notice of Technical Conference

Take notice that a staff-led conference will be held on October 20, 2015, at the offices of the Federal Energy Regulatory Commission, 888 First Street NE., Washington, DC 20426, between 9:00 a.m. and 4:15 p.m. (EST). The purpose of the conference is to obtain further information concerning the above referenced complaints.¹

¹ As noted in its order issued October 1, 2015 in Docket No. IN15-10-000, the Commission's Office of Enforcement is conducting a non-public investigation under Part 1b of the Commission's regulations into whether market manipulation or other potential violations of Commission orders, rules and regulations occurred before or during the Auction conducted by MISO in April 2015. This technical conference will not address the current investigation.

The technical conference will be transcribed. Transcripts will be available for a fee from Ace-Federal Reports, Inc. (202-347-3700).

There will be a free webcast of the conference. The webcast will allow persons to listen to the technical conference, but not participate. Anyone with internet access who wants to listen to the conference can do so by navigating to the Calendar of Events at www.ferc.gov and locating the technical conference in the Calendar. The technical conference will contain a link to its webcast. The Capitol Connection provides technical support for the webcast and offers the option of listening to the meeting via phone-bridge for a fee. If you have any questions, visit www.CapitolConnection.org or call 703-993-3100. The webcast will be available on the Calendar of Events on the Commission's Web site www.ferc.gov for three months after the conference.

Advance registration is not required but is highly encouraged. Attendees may register at the following Web page: https://www.ferc.gov/whats-new/registration/10-20-15-form.asp. Attendees should allow time to pass through building security procedures before the 9:00 a.m. (EST) start time of the technical conference. In addition, information on this event will be posted on the Calendar of Events on the Commission's Web site, www.ferc.gov, prior to the event.

Discussions at the conference may address matters at issue in the following Commission proceeding(s) that are either pending or within their rehearing period: Midcontinent Independent System Operator, Inc., Docket No. ER11-4081-000, et al.

Commission conferences are accessible under section 508 of the Rehabilitation Act of 1973. For accessibility accommodations, please send an email to accessibility@ferc.gov or call toll free (866) 208-3372 (voice) or (202) 502-8659 (TTY), or send a FAX to (202) 208-2106 with the required accommodations.

The technical conference will consist of four sessions and focus on the issues raised in the complaints, as detailed below. Commissioners may attend and ask questions. The times given below are approximate and may change, as needed.

Conference Introduction: Commission Staff (9:00 a.m.-9:15 a.m.)

Session 1: Market Power Mitigation (9:15 a.m.-12:15 p.m.)

Panel 1: Implementation of the Current Mitigation Procedures and Reference Level Calculations (90 mins)

Staff will lead a discussion to obtain information on the current market power mitigation procedures, including Initial Reference Levels, the transmission availability from MISO to PJM Interconnection, L.L.C. (PJM), PJM's market for replacement capacity, opportunity costs, and the Conduct Threshold for capacity market offer mitigation. Panelists should also be prepared to answer questions including, but not limited to, the following: For the 2014/15 and 2015/16 delivery years, how much PJM replacement capacity was procured after PJM's third incremental auction, and of that, how much was from MISO resources, and for what prices and durations were these MISO resources contracted? How much total transmission capability was available between MISO and PJM during the 2014/15 and 2015/16 MISO and PJM delivery years, and how much of that transmission capacity was subscribed as of the PJM third Incremental Auction for each delivery year? How much total transmission capability is expected between MISO and PJM for the 2016/17 and 2017/18 delivery years, and how much of that transmission capability is already subscribed?

Panel 2: Alternatives to the Current Mitigation Procedures and Reference Level Calculation (90 mins)

Panelists should be prepared to discuss possible alternatives to the current market power mitigation procedures and calculations. Panelists should also be prepared to answer questions including, but not limited to, the following: How should opportunity cost underlying reference levels consider physical or economic limitations of capacity sales? Should individual reference levels be developed for market participants that are pivotal suppliers in the capacity market? If so, how should they be determined? What are alternatives to PJM replacement capacity sales for determining the opportunity costs used to establish mitigation reference levels?

Lunch Break: (12:15 p.m.-1:15 p.m.)

Session 2: Local Requirements (1:15 p.m.-2:15 p.m.)

Panelists should be prepared to describe the calculations of Auction parameters such as Local Reliability Requirements, Capacity Import Limits, Capacity Export Limits, and Local Clearing Requirements, and to answer questions including, but not limited to, the following: What was the rationale behind the methodological change to examine constraints below 200 kV in the calculation of Capacity Import Limits and Capacity Export Limits? How does MISO's calculation of zonal Capacity Import Limits and Capacity Export Limits reflect counter-flows from or into neighboring regions?

Session 3: Zonal Boundaries (2:15 p.m.-3:00 p.m.)

Panelists should be prepared to discuss the current zonal boundaries in MISO and the criteria used to establish zonal configuration. Panelists should also be prepared to answer questions including, but not limited to, the following: Have the six criteria in the Tariff established a zonal configuration that reflects the physical constraints on the MISO transmission system? If there is little or no congestion between adjacent zones, what are the reasons for and against combining the zones? What changes to the criteria and/or zonal configuration are currently being considered by MISO?

Break: (3:00 p.m.-3:15 p.m.)

Session 4: Wrap Up (3:15 p.m.-4:00 p.m.)

Panelists should be prepared to answer questions including, but not limited to, the following: What changes to the Tariff, including those not discussed in the first three sessions, might be necessary to ensure just and reasonable outcomes going forward, and, of these changes, which can be implemented for the 2016/17 Auction?

Conference Conclusion: Next Steps (4:00 p.m.-4:15 p.m.)

Following the technical conference, the Commission will consider post-technical conference comments regarding the matters discussed at the conference submitted on or before November 4, 2015.

For more information about this technical conference, please contact Elizabeth Shen, 202-502-6545, elizabeth.shen@ferc.gov, regarding legal issues; or Angelo Mastrogiacomo, 202-502-8689, angelo.mastrogiacomo@ferc.gov, and Emma Nicholson, 202-502-8846, emma.nicholson@ferc.gov, regarding technical issues; or Sarah McKinley, 202-502-8368, sarah.mckinley@ferc.gov, regarding logistical issues.

Dated: October 1, 2015.
Kimberly D. Bose,
Secretary.

[FR Doc. 2015-25632 Filed 10-7-15; 8:45 am]

BILLING CODE 6717-01-P